DEPARTMENT OF COMMERCE

National Oceanic and Atmospheric Administration

50 CFR Parts 223 and 224

RIN 0648-XA768

Endangered and Threatened Species; Initiation of Status Review for Ribbon Seal

AGENCY: National Marine Fisheries Service (NMFS), National Oceanic and Atmospheric Administration (NOAA), Commerce.

ACTION: Initiation of status review and solicitation of information.

SUMMARY: We, NMFS, under the authority of the Endangered Species Act of 1973, as amended (ESA), announce the initiation of a status review for the ribbon seal (Histriophoca fasciata). We conduct status reviews to determine whether the entity should be listed as threatened or endangered under the ESA. To ensure that the status review is comprehensive, we are soliciting scientific and commercial information regarding this species (see below).

DATES: Information and comments on the subject action must be received by February 13, 2012.

ADDRESSES: Send comments to Kaja Brix, Assistant Regional Administrator, Protected Resources Division, Alaska Region, NMFS, Attn: Ellen Sebastian. You may submit comments, identified by FDMS Docket Number NOAA-NMFS-2011-0248, by any one of the following methods:

Electronic Submissions: Submit all electronic public comments via the Federal eRulemaking Portal http://www.regulations.gov. To submit comments via the e-Rulemaking Portal, first click the “submit a comment” icon, then enter NOAA-NMFS-2011-0248 in the keyword search. Locate the document you wish to comment on from the resulting list and click on the “Submit a Comment” icon on the right of that line.

Mail: Submit written comments to P.O. Box 21668, Juneau, AK 99802.

Fax: (907) 586-7557.

Hand delivery to the Federal Building: 709 West 9th Street, Room 420A, Juneau, AK.

Comments must be submitted by one of the above methods to ensure that the comments are received, documented, and considered by NMFS. Comments sent by any other method, to any other address or individual, or received after the end of the comment period, may not be considered.

All comments received are a part of the public record and will generally be posted for public viewing on http://www.regulations.gov without change. All personal identifying information (e.g., name, address, etc.) submitted voluntarily by the sender will be publicly accessible. Do not submit confidential business information, or otherwise sensitive or protected information.

NMFS will accept anonymous comments (enter “N/A” in the required fields if you wish to remain anonymous). Attachments to electronic comments will be accepted in Microsoft Word or Excel, WordPerfect, or Adobe PDF file formats only.

FOR FURTHER INFORMATION CONTACT: Tamara Olson, NMFS Alaska Region, (907) 271-5006; Kaja Brix, NMFS Alaska Region, (907) 586-7235; or Marta Nammack, Office of Protected Resources, Silver Spring, MD (301) 713-1401.

SUPPLEMENTARY INFORMATION:

Background

On December 20, 2007, we received a petition from the Center for Biological Diversity (CBD) to list the ribbon seal as a threatened or endangered species under the ESA, primarily due to concern about threats to this species' habitat from climate warming and loss of sea ice. The Petitioner also requested that critical habitat be designated for ribbon seals concurrently with listing under the ESA. On March 28, 2008, we published a 90-day finding (73 FR 16617) in which we determined that the petition presented substantial information indicating that the petitioned action may be warranted and initiated a status review of the ribbon seal.

On December 30, 2008, we published our 12-month finding that listing of the ribbon seal was not warranted (73 FR 79822). In this finding we concluded that although ribbon seal population abundance is likely to decline gradually for the foreseeable future, primarily from slight but chronic impacts on reproduction and survival caused by reduced frequency of years with sea ice of suitable extent, quality, and duration of persistence, it is not in danger of extinction or likely to become an endangered species within the foreseeable future throughout all or a significant portion of its range.

On September 3, 2009, CBD and Greenpeace, Inc. (collectively, “Center”) filed a complaint in U.S. District Court challenging our 12-month finding. On December 21, 2010, after considering cross-motions for summary judgment, the Court denied the Center's motion for summary judgment and granted NMFS' cross-motion. The Center filed a notice of appeal of this judgment to the Ninth Circuit Court of Appeals on January 18, 2011.

Information has become available since publication of the December 30, 2008, 12-month finding that may have implications for the status of the ribbon seal relative to the listing provisions of the ESA, including new data on ribbon seal movements and diving, as well as a modified threat-specific approach to analyzing the foreseeable future which we used in the spotted (Phoca largha), ringed (Phoca hispida), and bearded seal (Erignathus barbatus) status reviews completed subsequent to the ribbon seal status review (75 FR 65239, October 22, 2010; 75 FR 77476 and 75 FR 77496, December 10, 2010). In consideration of this information, we entered a settlement agreement with the Center on August 30, 2011, under which we agreed to initiate a new status review and issue a 12-month finding on whether listing the ribbon seal as threatened or endangered is warranted and submit the determination to the Office of the Federal Register by December 10, 2012. This document initiates a new status review for the ribbon seal.

You may obtain copies of previous Federal actions relating to the ribbon seal from http://www.regulations.gov or from the Alaska Region Web site at http://alaskafisheries.noaa.gov.

ESA Statutory Provisions and Policy Considerations

There are two key tasks associated with an ESA status review. The first is to delineate the taxonomic group under consideration and the second is to conduct an extinction risk assessment to determine whether the petitioned species is threatened or endangered.

Under the ESA, a listing determination can address a species, subspecies, or a distinct population segment (DPS) of a vertebrate species (16 U.S.C. 1532 (16)). The term “distinct population segment” (DPS) is not commonly used in scientific discourse, so the USFWS and NMFS developed the “Policy Regarding the Recognition of Distinct Vertebrate Population Segments Under the Endangered Species Act” to provide a consistent interpretation of this term for the purposes of listing, delisting, and reclassifying vertebrates under the ESA (61 FR 4722; February 7, 1996). We will use this policy to guide our determination of whether DPSs exist in ribbon seals.

The ESA defines an endangered species as “any species which is in danger of extinction throughout all or a significant portion of its range.” A threatened species is defined as a species that is “likely to become an endangered species within the foreseeable future throughout all or a significant portion of its range.” Under section 4(a)(1) of the ESA, a species may be determined to be threatened or endangered as a result of any one of the following factors: (1) Present or threatened destruction, modification, or curtailment of habitat or range; (2) overutilization for commercial, recreational, scientific, or educational purposes; (3) disease or predation; (4) inadequacy of existing regulatory mechanisms; or (5) other natural or manmade factors affecting its continued existence. Listing determinations are based solely on the best scientific and commercial data available, after conducting a review of the status of the species and taking into account efforts made by any state or foreign nation to protect such species.

Information Solicited

To ensure that the status review is complete and based on the best available scientific and commercial information, we are opening a 60-day public comment period to solicit information from the public, government agencies, Alaska Natives, the scientific community, industry, and other interested parties on the status of the ribbon seal throughout its range. We are seeking:

(1) Information on taxonomy, abundance, reproductive success, age structure, distribution, habitat selection, food habits, population density and trends, habitat trends, and effects of management on ribbon seals;

(2) Information on the effects of climate change and sea ice change on the distribution and abundance of ribbon seals and their principal prey over the short- and long-term;

(3) Information on the effects of other potential threat factors, including oil and gas exploration and development, contaminants, hunting, and poaching, on the distribution and abundance of ribbon seals and their principal prey over the short- and long-term;

(4) Information on management programs for ribbon seal conservation, including mitigation measures related to oil and gas exploration and development, hunting conservation programs, anti-poaching programs, and any other private, tribal, or governmental conservation programs which benefit ribbon seals; and

(5) Information relevant to population structure of ribbon seals.

We request that all data and information be accompanied by supporting documentation such as maps, bibliographic references, or reprints of pertinent publications. Please submit any comments to the ADDRESSES listed above. We will base our finding on a review of the best scientific and commercial information available, including all information received during the public comment period.

Authority: The authority for this action is the Endangered Species Act of 1973, as amended (16 U.S.C. 1531 et seq.).

Dated: December 6, 2011.
Samuel D. Rauch III,
Deputy Assistant Administrator for Regulatory Programs, National Marine Fisheries Service.

[FR Doc. 2011-31959 Filed 12-12-11; 8:45 a.m.]

BILLING CODE 3510-22-P